DEPARTMENT OF COMMERCE

National Oceanic and Atmospheric Administration

[I.D. 121801E]

Gulf of Mexico Fishery Management Council; Public Meeting

AGENCY: National Marine Fisheries Service (NMFS), National Oceanic and Atmospheric Administration (NOAA), Commerce.

ACTION: Notice of public meeting.

SUMMARY: The Gulf of Mexico Fishery Management Council will convene public meetings of the Standing and Special Mackerel Scientific and Statistical Committee (SSC) and the Mackerel Advisory Panel (AP) on January 9 and January 10, 2002.

DATES: The Council’s Standing and Special Mackerel SSC meeting will be convened at 8:30 a.m. EST on Wednesday, January 9, 2002 will conclude by 3 p.m. The Mackerel AP will be convened at 8:30 a.m. EST on Thursday, January 10, 2002 and will conclude by 3 p.m.

ADDRESSES: The meetings will be held at the Hilton Tampa Airport Hotel, 2225 Lois Avenue, Tampa, FL 33607; telephone: 813-877-6688.

Council address: Gulf of Mexico Fishery Management Council, 3018 U.S. Highway 301 North, Suite 1000, Tampa, FL 33619.

FOR FURTHER INFORMATION CONTACT: Dr. Richard Leard, Senior Fishery Biologist, the Gulf of Mexico Fishery Management Council; telephone: 813-228-2815.

SUPPLEMENTARY INFORMATION: The Mackerel AP and SSC will review the 2001 stock assessment analyses for Gulf group king and Spanish mackerel, as well as an assessment of cobia stocks in the Gulf of Mexico. They will also review the Mackerel Stock Assessment Panel (MSAP) reports for mackerels and cobia, and the report of the Socioeconomic Panel (SEP) that includes economic and social information. Based on this review, the Mackerel AP and SSC may recommend to the Council status criteria including maximum sustainable yield (MSY), optimum yield (OY), as well as overfishing and overfished criteria. The Mackerel AP and SSC may also make recommendations for total allowable catch (TAC), bag limits, size limits, commercial quotas, and other measures under the framework procedure of the Coastal Migratory Pelagics Fishery Management Plan.

Although other non-emergency issues not on the agenda may come before the AP/SSC for discussion, in accordance with the Magnuson-Stevens Fishery Conservation and Management Act, those issues may not be the subject of formal action during these meetings. Actions of the AP/SSC will be restricted to those issues specifically identified in the agendas and any issues arising after publication of this notice that require emergency action under Section 305(c) of the Magnuson-Stevens Act, provided the public has been notified of the Council's intent to take action to address the emergency.

Copies of the agenda can be obtained by calling 813-228-2815.

Special Accommodations

This meeting is physically accessible to people with disabilities. Requests for sign language interpretation or other auxiliary aids should be directed to Anne Alford at the Council (see ADDRESSES) by January 2, 2002.

Dated: December 19, 2001.
Richard W. Surdi.
Acting Director, Office of Sustainable Fisheries, national Marine Fisheries Service.

[FR Doc. 01-31660 Filed 12-21-01; 8:45 am]

BILLING CODE 3510-22-S